DEPARTMENT OF THE INTERIOR

National Park Service

[Account Number: 6365-SZM]

President William Jefferson Clinton Birthplace Home National Historic Site

AGENCY: National Park Service, Interior.

ACTION: Notice.

SUMMARY: The Secretary of the Interior designates the site located at 117 South Hervey Street, Hope, Arkansas 71801, as the “President William Jefferson Clinton Birthplace Home National Historic Site.”

FOR FURTHER INFORMATION CONTACT: Contact Nick Chevance, Midwest Regional Office, at (402) 661-1844.

SUPPLEMENTARY INFORMATION: Section 7002 of the Omnibus Public Land Management Act of 2009 (Pub. L. 111-11) includes a specific provision relating to establishment of this unit of the National Park System as follows:

Should the Secretary of the Interior acquire, by donation only from the Clinton Birthplace Foundation, Inc., fee simple, unencumbered title to the William Jefferson Clinton Birthplace Home site located at 117 South Hervey Street, Hope, Arkansas, 71801, and to any personal property related to that site, the Secretary shall designate the William Jefferson Clinton Birthplace Home site as a National Historic Site and unit of the National Park System, to be known as the “President William Jefferson Clinton Birthplace Home National Historic Site.”

On December 14, 2010, the Clinton Birthplace Home Foundation, Inc. donated to the United States, the property known as 117 South Hervey Street, Hope, Arkansas 71801. The property includes President Clinton's birthplace home and the personal property therein as well as the Virginia Cassidy Blythe Clinton Kelley Memorial Garden, and another improvement housing the Museum Store and Exhibit Center. With the donation of these lands and personal property, the Secretary hereby designates the site as a unit of the National Park System to be known as the “President William Jefferson Clinton Birthplace Home National Historic Site,” effective December 14, 2010, as a unit of the National Park System and subject to all laws, regulations, and policies pertaining to such units.

Dated: December 17, 2010.
Ken Salazar,
Secretary of the Interior.

[FR Doc. 2010-32550 Filed 12-27-10; 8:45 am]

BILLING CODE 4312-51-P